DEPARTMENT OF HOUSING AND URBAN DEVELOPMENT

[Docket No. FR-6498-N-01]

The Performance Review Board

AGENCY: Office of the Secretary, Housing and Urban Development (HUD).

ACTION: Notice of appointments.

SUMMARY: The Department of Housing and Urban Development announces the establishment of the Departmental Performance Review Board (PRB) to make recommendations to the appointing authority on the performance and compensation of its Senior Executive Service (SES), Senior Level (SL) and Senior Technical (ST) professionals. The following persons may be named to serve on the PRB from 2024 through 2026. They are listed by type of appointment, name, and official title.

FOR FURTHER INFORMATION CONTACT: Persons desiring any further information about the PRB and its members may contact Selina M. Swales, Director, Office of Executive Resources, Department of Housing and Urban Development, Washington, DC 20410. Telephone (202) 402-3450. (This is not a toll-free number.) HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The following persons may be named to serve on the PRB from 2024 through 2026. They are listed by type of appointment, name, and official title:

Name | Official title
CAREER SES
AMMON, MATTHEW E | DIRECTOR, OFFICE OF HEALTHY HOMES AND LEAD HAZARD CONTROL.
BERENBAUM, DAVID L | DEPUTY ASSISTANT SECRETARY, OFFICE OF HOUSING COUNSELING.
BETTS, SUSAN A | DEPUTY ASSISTANT SECRETARY FOR FINANCE AND BUDGET.
BLOM, DOMINQUE G | GENERAL DEPUTY ASSISTANT SECRETARY FOR PUBLIC AND INDIAN HOUSING.
BOHLING, GAYLE E | DEPUTY GENERAL COUNSEL FOR OPERATIONS.
BROWN, AMY L | DEPUTY GENERAL COUNSEL FOR HOUSING PROGRAMS.
BRYON, JEMINE A | DEPUTY ASSISTANT SECRETARY FOR SPECIAL NEEDS.
CLARK, PRISCILLA W | DEPUTY CHIEF HUMAN CAPITAL OFFICER PROGRAMS.
CULLEN, DEANDRA J | ASSOCIATE DEPUTY ASSISTANT SECRETARY FOR ENFORCEMENT COMPLIANCE.
COOPER, GARY J | ASSOCIATE DEPUTY ASSISTANT SECRETARTY FOR NATIVE AMERICAN PROGRAMS.
CORSIGLIA, NANCY E | ASSOCIATE DEPUTY ASSISTANT SECRETARY FOR FINANCE AND BUDGET.
DARLING, KATHERINE M | ASSISTANT CHIEF FINANCIAL OFFICER FOR SYSTEMS.
FERRY, SHYLON C | DEPUTY ASSISTANT SECRETARY FOR OPERATIONS.
FORRESTER, ALTHEA M | ASSOCIATE GENERAL COUNSEL FOR ASSISTED HOUSING AND COMMUNITY DEVELOPMENT.
GAITHER, FELICIA R | DEPUTY ASSISTANT SECRETARY FOR FIELD OPERATIONS.
GETCHIS, JOHN F | SENIOR VICE PRESIDENT, OFFICE OF CAPITAL MARKETS.
GOLRICK, JANET A | NATIONAL DISASTER COORDINATOR.
GRAHAM, WILMER J | CHIEF RISK OFFICER.
HADLEY, JOY L | DIRECTOR, OFFICE OF LENDER ACTIVITIES AND PROGRAMS.
IJAZ, SAIRAH R | CHIEF INFORMATION OFFICER.
JEWITT, BRADLEY S | CHIEF ADMINISTRATIVE OFFICER.
JOHNSON, CALVIN C | DEPUTY ASSISTANT SECRETARY FOR THE OFFICE OF RESEARCH, EVALUATION AND MONITORING.
KEITH, GREGORY A | SENIOR VICE PRESIDENT AND CHIEF RISK OFFICER.
KUBACKI, MELAJO K | ASSISTANT CHIEF FINANCIAL OFFICER FOR FINANCIAL MANAGEMENT.
LOFINMAKIN, ADETOKUNBO | SENIOR VICE PRESIDENT AND CHIEF FINANCIAL OFFICER.
MCNEELY, KEVIN L | DEPUTY DIRECTOR, FIELD POLICY AND MANAGEMENT.
MONTGOMERY, MATISHA D | CHIEF LEARNING OFFICER.
MORRIS, VANCE T | ASSOCIATE GENERAL DEPUTY ASSISTANT SECRETARY FOR HOUSING.
MULRAIN, LISA V | ASSOCIATE GENERAL COUNSEL FOR FINANCE.
NGUYEN, NHEIN T | CHIEF PERFORMANCE OFFICER.
PAO, JEAN LIN | DIRECTOR, OFFICE OF SMALL AND DISADVANTAGED BUSINESS UTILIZATION.
PARKER, TENILLE S | DIRECTOR, DISASTER RECOVERY SPECIAL ISSUES DIVISION.
PETERSON, CHRISTINA M | CHIEF TRANSFORMATION AND STRATEGY OFFICER.
PORDZIK, LESLIE A | SENIOR VICE PRESIDENT, MORTGAGED BACKED SECURITIES.
PRESTON, TAWANNA A | SENIOR VICE PRESIDENT OF ADMINISTRATION AND SENIOR ADVISOR TO OFFICE OF THE PRESIDENT.
RAMOS, RUSSELL A | SENIOR VICE PRESIDENT OF ENTERPRISE DATA AND TECHNOLOGY SOLUTIONS.
REEVES, ANTHONY B | DEPUTY ASSISTANT SECRETARY FOR OPERATIONS.
RICHARDSON, TODD M | GENERAL DEPUTY ASSISTANT SECRETARY FOR POLICY DEVELOPMENT AND RESEARCH.
ROBINSON, JOZETTA M | EXECUTIVE SECRETARIAT.
SHAFFER, JULIE A | ASSOCIATE DEPUTY ASSISTANT SECRETARY FOR SINGLE-FAMILY HOUSING.
SANTA ANNA, AARON | ASSOCIATE GENERAL COUNSEL FOR LEGISLATION AND REGULATIONS.
SARGEANT, JUAN C | DEPUTY CHIEF INFORMATION OFFICER FOR INFRASTRUCTURE AND OPERATIONS.
SARDONE, VIRGINIA M | DIRECTOR, OFFICE OF AFFORDABLE HOUSING.
SAUNDERS, ELISSA O | DIRECTOR, OFFICE OF SINGLE-FAMILY HOUSING PROGRAMS DEVELOPMENT.
TOLBERT, SHERECE M | ASSOCIATE GENERAL COUNSEL FOR INSURED HOUSING AND URBAN DEVELOPMENT.
USOWSKI, KURT G | DEPUTY ASSISTANT SECRETARY FOR ECONOMIC AFFAIRS.
WILLIAMS, WAYNE A | DIRECTOR, OFFICE OF DEPARTMENTAL EQUAL EMPLOYMENT OPPORTUNITY.
NONCAREER SES
EDELMAN, SARAH J | DEPUTY ASSISTANT SECRETARY FOR SINGLE-FAMILY HOUSING.
GREENE, SOLOMON | PRINCIPAL DEPUTY ASSISTANT SECRETARY FOR POLICY DEVELOPMENT AND RESEARCH.
HANDELMAN, ETHAN D | DEPUTY ASSISTANT SECRETARY FOR MULTI-FAMILY HOUSING.
JOSEPH, JULIENNE Y | SENIOR COUNSELOR.
KLUBES, BENJAMIN | PRINCIPAL DEPUTY GENERAL COUNSEL.
MCFADDEN, MARION | PRINCIPAL DEPUTY ASSISTANT SECRETARY FOR COMMUNITY PLANNING AND DEVELOPMENT.
METRAKAS, EUGENIA M | CHIEF OF STAFF.
MONOCCHIO, RICHARD | PRINCIPAL DEPUTY ASSISTANT SECRETARY FOR PUBLIC AND INDIAN HOUSING.
NIBLOCK, ELIZABETH A | SENIOR ADVISOR FOR DISASTER MANAGEMENT.
REFFETT, ROBERT T | DEPUTY CHIEF OF STAFF.
ROGERS, FAITH | CHIEF OF STAFF.
SAMBERG-CHAMPION, SASHA M | DEPUTY GENERAL COUNSEL FOR ENFORCEMENT.
STEIN, ERIC S | SENIOR ADVISOR.
TAYLOR, PATRICE D | DEPUTY CHIEF OF STAFF.
VALVERDE, SAM I | EXECUTIVE VICE PRESIDENT AND CHIEF OPERATING OFFICER.

Adrianne R. Todman,
Deputy Secretary Performing the Duties of the Secretary of HUD.

[FR Doc. 2024-26774 Filed 11-15-24; 8:45 am]

BILLING CODE 4210-67-P